DEPARTMENT OF LABOR

Employment and Training Administration

[TA-W-52,706]

Compaq Computer Corporation, Denver, CO; Notice of Termination of Investigation

Pursuant to Section 221 of the Trade Act of 1974, an investigation was initiated on August 29, 2003 in response to a worker petition which was filed by the State TAA Coordinator on behalf of workers at Compaq Computer Corporation, Denver, Colorado.

The petitioner has requested that the petition be withdrawn. Consequently, the investigation has been terminated.

Signed in Washington, DC, this 8th day of September, 2003.
Richard Church,
Certifying Officer, Division of Trade Adjustment Assistance.

[FR Doc. 03-25731 Filed 10-9-03; 8:45 am]

BILLING CODE 4510-30-P